FEDERAL COMMUNICATIONS COMMISSION

47 CFR Part 73

[DA 04-1420; MM Docket No. 02-23; RM-10359]

Radio Broadcasting Services; Keeseville, NY, Hartford and White River Junction, VT

AGENCY: Federal Communications Commission.

ACTION: Final rule.

SUMMARY: This document allots Channel 231A at Keeseville, New York in response to a counterproposal filed by Hall Communications, Inc. It also denies the initiating proposal filed by Great Northern Radio, LLC, licensee of Station WSSH(FM), Channel 237A, White River Junction, Vermont, and Family Broadcasting, Inc., licensee of WWOD(FM), Channel 282C3, Hartford, Vermont to reallot Channel 282C3 from Hartford, Vermont to Keeseville, New York and Channel 237A from White River Junction to Hartford, and modify the licenses of Stations WWOD(FM) and WSSH(FM), respectively, to reflect the changes. Channel 231A can be allotted to Keeseville in compliance with the Commission's minimum distance separation requirements at a site 5.0 kilometers (3.1 miles) northwest of the community. The coordinates for Channel 231A at Keeseville are 344-31-45 NL and 73-32-00 WL.

DATES: Effective October 12, 2004.

FOR FURTHER INFORMATION CONTACT: Victoria M. McCauley, Media Bureau, (202) 418-2180.

SUPPLEMENTARY INFORMATION: This is a summary of the Commission's Report and Order, MM Docket No. 02-23, adopted August 25, 2004, and released August 27, 2004. The full text of this Commission decision is available for inspection and copying during regular business hours in the FCC's Reference Information Center, Portals II, 445 12th Street, SW., Room CY-A257, Washington, DC, 20554. The complete text of this decision may also be purchased from the Commission's duplicating contractor, Best Copy and Printing, Inc., 445 12th Street, SW., Room CY-B402, Washington, DC, 20054, telephone 1-800-378-3160 or http://www.BCPIWEB.com. The Commission will send a copy of this Report and Order in a report to be sent to Congress and the General Accounting Office pursuant to the Congressional Review Act, see 5 U.S.C. 801(a)(1)(A).

List of Subjects in 47 CFR Part 73

Radio, Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under New York, is amended by adding Keeseville, Channel 231A.

Federal Communications Commission.
John A. Karousos,
Assistant Chief, Audio Division, Media Bureau.

[FR Doc. 04-20612 Filed 9-10-04; 8:45 am]

BILLING CODE 6712-01-P